Proclamation 10221 of June 1, 2021

Great Outdoors Month, 2021

By the President of the United States of America

A Proclamation

America's great outdoors, diverse landscapes, and pristine waterways are a limitless source of pride, inspiration, and sustenance of both body and soul—and an essential part of our national identity. It is our shared responsibility as Americans to be good stewards of these irreplaceable treasures for our children and grandchildren, and for generations to come. During Great Outdoors Month, we celebrate our Nation's natural wonders, and rededicate ourselves to conserving nature's splendor for all Americans and safeguarding our environment against the existential threat of climate change and other challenges.

Our Nation is blessed by an abundance of incredible outdoor spaces that provide opportunities for exploration, recreation, and rejuvenation. From the Sierra Nevadas to the Ozark Trail to the Everglades—to local trails and parks in every part of the country—the outdoors inspire creativity, provide educational opportunities, and bring communities together. This past year, so many of us have developed an even greater appreciation for the powerful role that outdoor spaces play in our physical and mental well-being—providing outlets for activity, solace, and connection in the midst of a devastating pandemic.

Now more than ever, we must rise to meet the challenges of environmental degradation, climate change, and inequitable access to nature. The natural world provides critical resources that sustain all life on Earth—from the air we breathe and the water we drink to the food we eat. Ensuring that we maintain healthy ecosystems and a resilient planet is not just a matter of environmentalism. It is also critical to our health, our safety, the security of our families, and the strength of our economy.

My Administration is committed to taking swift action to address the existential threat of climate change. I have proposed a major investment to put Americans to work building critical industries to produce and deploy clean technologies—reducing harmful emissions, and putting us on the path to a more sustainable and equitable future while creating millions of good-paying jobs. We are going to put Americans to work building a clean, resilient power grid; capping hundreds of thousands of abandoned oil and gas wells and coal mines to put a stop to methane leaks; constructing the next generation of electric vehicles; and developing new carbon capture and green hydrogen technologies on farms and in factories to make everything from our steel and cement to our agricultural sector cleaner and more sustainable. We will also speed up implementation of the Great American Outdoors Act, which invests in conservation projects that will benefit communities across the country—including Black and brown communities that have too often been excluded from our great outdoor spaces. My Administration has also outlined a new “America the Beautiful” initiative to bring the Federal Government together with State, Tribal, and local partners to conserve at least 30 percent of our lands and waters by 2030.

During Great Outdoors Month, I encourage all Americans to explore our Nation's beautiful outdoor spaces. As we enjoy the great outdoors—from national parks to our own backyards—let us rededicate ourselves to conserving our Nation's natural spaces for our own well-being, and for the health, safety, prosperity, and fulfillment of generations to come.

NOW, THEREFORE, I, JOSEPH R. BIDEN JR., President of the United States of America, by virtue of the authority vested in me by the Constitution and the laws of the United States, do hereby proclaim June 2021 as Great Outdoors Month. I urge all Americans to explore the great outdoors, to experience our Nation's natural heritage, and to continue our Nation's tradition of preserving and conserving our lands for future generations.

IN WITNESS WHEREOF, I have hereunto set my hand this first day of June, in the year of our Lord two thousand twenty-one, and of the Independence of the United States of America the two hundred and forty-fifth.

[FR Doc. 2021-11972

Filed 6-4-21; 8:45 am]

Billing code 3295-F1-P